DEPARTMENT OF ENERGY

Federal Energy Regulatory Commission

Combined Notice of Filings #1

Take notice that the Commission received the following electric corporate filings:

Docket Numbers: EC16-166-000.

Applicants: CXA Sundevil Power I, Inc., CXA Sundevil Power II, Inc., Sundevil Power Holdings, LLC.

Description: Joint Application for Authorization Under Section 203 of the Federal Power Act, Request for Waiver of Certain Commission Requirements, and Request for Expedited Treatment of CXA Sundevil Power I, Inc., et al.

Filed Date: 8/11/16.

Accession Number: 20160811-5214.

Comments Due: 5 p.m. ET 9/1/16.

Take notice that the Commission received the following exempt wholesale generator filings:

Docket Numbers: EG16-135-000.

Applicants: Oregon Clean Energy, LLC.

Description: Oregon Clean Energy, LLC Notice of Self-Certification of Exempt Wholesale Generator Status.

Filed Date: 8/12/16.

Accession Number: 20160812-5068.

Comments Due: 5 p.m. ET 9/2/16.

Take notice that the Commission received the following electric rate filings:

Docket Numbers: ER16-1732-001; ER10-2743-009; ER10-1854-007; ER10-2755-012; ER16-1652-002; ER10-2739-014; ER11-3320-007; ER10-2751-009; ER10-2744-008; ER16-2406-001; ER16-2405-001; ER13-2316-005; ER10-1631-007; ER14-19-005.

Applicants: Aurora Generation, LLC, Bluegrass Generation Company, L.L.C., Doswell Limited Partnership, Las Vegas Power Company, LLC, LifeEnergy, LLC, LS Power Marketing, LLC, LSP University Park, LLC, Renaissance Power, L.L.C., Riverside Generating Company, L.L.C., Rockford Power, LLC, Rockford Power II, LLC, Seneca Generation, LLC, University Park Energy, LLC, West Deptford Energy, LLC.

Description: Notification of Change in Status of the LS PJM MBR Sellers, et al.

Filed Date: 8/11/16.

Accession Number: 20160811-5224.

Comments Due: 5 p.m. ET 9/1/16.

Docket Numbers: ER16-1920-001.

Applicants: Tucson Electric Power Company.

Description: Compliance filing: Tariff Record Correction to be effective 8/15/2016.

Filed Date: 8/12/16.

Accession Number: 20160812-5117.

Comments Due: 5 p.m. ET 9/2/16.

Docket Numbers: ER16-2410-000.

Applicants: Southwest Power Pool, Inc.

Description: § 205(d) Rate Filing: 2208R2 Ensign Wind, LLC GIA Cancellation to be effective 5/13/2016.

Filed Date: 8/12/16.

Accession Number: 20160812-5042.

Comments Due: 5 p.m. ET 9/2/16.

Docket Numbers: ER16-2411-000.

Applicants: Luning Energy Holdings LLC.

Description: Baseline eTariff Filing: Application for Market-Based Rate Authorization to be effective 10/12/2016.

Filed Date: 8/12/16.

Accession Number: 20160812-5049.

Comments Due: 5 p.m. ET 9/2/16.

Docket Numbers: ER16-2411-001.

Applicants: Luning Energy Holdings LLC.

Description: Tariff Amendment: Supplement to Application for Market-Based Rate Authorization to be effective 10/12/2016.

Filed Date: 8/12/16.

Accession Number: 20160812-5052.

Comments Due: 5 p.m. ET 9/2/16

Docket Numbers: ER16-2412-000.

Applicants: Luning Energy LLC.

Description: Baseline eTariff Filing: Application for Market-Based Rate Authorization to be effective 10/12/2016.

Filed Date: 8/12/16

Accession Number: 20160812-5050.

Comments Due: 5 p.m. ET 9/2/16.

Docket Numbers: ER16-2412-001.

Applicants: Luning Energy LLC.

Description: Tariff Amendment: Supplement to Application for Market-Based Rate Authorization to be effective 10/12/2016.

Filed Date: 8/12/16.

Accession Number: 20160812-5053.

Comments Due: 5 p.m. ET 9/2/16.

Docket Numbers: ER16-2413-000.

Applicants: Liberty Utilities (Granite State Electric) Corp.

Description: § 205(d) Rate Filing: Borderline Sales Rate Sheet Update 2016 to be effective 7/1/2016.

Filed Date: 8/12/16.

Accession Number: 20160812-5078.

Comments Due: 5 p.m. ET 9/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2016.
Kimberly D. Bose,
Secretary.

[FR Doc. 2016-19756 Filed 8-17-16; 8:45 am]

BILLING CODE 6717-01-P